DEPARTMENT OF THE INTERIOR

Fish and Wildlife Service

[Docket No. FWS-R4-ES- 2012-0081;FF04EF1000 FGES11130400000 134]

Marine Mammal Protection Act; Stock Assessment Reports

AGENCY: Fish and Wildlife Service, Interior.

ACTION: Notice of availability of final revised marine mammal stock assessment reports; response to comments.

SUMMARY: In accordance with the Marine Mammal Protection Act of 1972, as amended (MMPA), and its implementing regulations, we, the U.S. Fish and Wildlife Service (Service), announce that we have revised our stock assessment reports (SAR) for two West Indian manatee stocks: the Florida manatee stock and the Puerto Rico stock of Antillean manatees (Trichechus manatus latirostris and Trichechus manatus manatus, respectively), including incorporation of public comments. We now make these two final revised SARs available to the public.

ADDRESSES: You may view both revised SARs on http://www.regulations.gov under Docket No. FWS-R4-ES-2012-0081. Send requests for printed copies of the Florida Manatee SAR to: Field Supervisor, U.S. Fish and Wildlife Service, Jacksonville Field Office, 7915 Baymeadows Way, Suite 200, Jacksonville, Florida 32256-7517. You may also view or download it at http://www.fws.gov/northflorida. Send requests for printed copies of the Antillean Manatee SAR to: Field Supervisor, U.S. Fish and Wildlife Service, Caribbean Ecological Services Office, P.O. Box 491, Puerto Rico 00622. You may also view or download it at http://www.fws.gov/caribbean/ES.

FOR FURTHER INFORMATION CONTACT: For information on the methods, data, and results of the Florida manatee stock assessment, contact Jim Valade by phone at 904-731-3116 or by email at Jim_Valade@fws.gov. For information on the methods, data, and results of the Antillean manatee stock assessment, contact Marelisa Rivera by phone at 787-851-7297 or by email at Marelisa_Rivera@fws.gov. Persons who use a telecommunications device for the deaf may call the Federal Information Relay Service at 800-877-8339.

SUPPLEMENTARY INFORMATION:

Background

Under the MMPA (16 U.S.C. 1361 et seq.) and its implementing regulations in the Code of Federal Regulations (CFR) at 50 CFR part 18, the Service regulates the taking, possession, transportation, purchasing, selling, offering for sale, exporting, and importing of marine mammals. One of the goals of the MMPA is to ensure that stocks of marine mammals occurring in waters under U.S. jurisdiction do not experience a level of human-caused mortality and serious injury that is likely to cause the stock to be reduced below its optimum sustainable population (OSP) level. OSP is defined under the MMPA as ” . . . the number of animals which will result in the maximum productivity of the population or the species, keeping in mind the carrying capacity of the habitat and the health of the ecosystem of which they form a constituent element” (16 U.S.C. 1362(9)).

To help accomplish the goal of maintaining marine mammal stocks at their OSPs, section 117 of the MMPA requires the Service and the National Marine Fisheries Service (NMFS) to prepare a SAR for each marine mammal stock that occurs in waters under U.S. jurisdiction. Each SAR must include:

1. A description of the stock and its geographic range;

2. A minimum population estimate, maximum net productivity rate, and current population trend;

3. An estimate of human-caused mortality and serious injury;

4. A description of commercial fishery interactions;

5. A categorization of the status of the stock; and

6. An estimate of the potential biological removal (PBR) level.

The MMPA defines the PBR as “the maximum number of animals, not including natural mortalities, that may be removed from a marine mammal stock while allowing that stock to reach or maintain its OSP” (16 U.S.C. 1362(20)). The PBR is the product of the minimum population estimate of the stock (Nmin); one-half the maximum theoretical or estimated net productivity rate of the stock at a small population size (Rmax); and a recovery factor (Fr) of between 0.1 and 1.0. This can be written as:

PBR = (Nmin)(½ of the Rmax)(Fr)

Section 117 of the MMPA also requires the Service and NMFS to review the SARs: (a) At least annually for stocks that are specified as strategic stocks; (b) at least annually for stocks for which significant new information is available; and (c) at least once every 3 years for all other stocks. If our review of the status of a stock indicates that it has changed or may be more accurately determined, then the SAR must be revised accordingly.

A strategic stock is defined in the MMPA as a marine mammal stock (a) for which the level of direct human-caused mortality exceeds the PBR; (b) which, based on the best available scientific information, is declining and is likely to be listed as a threatened species under the Endangered Species Act of 1973, as amended (16 U.S.C. 1531 et seq.) [the “ESA”], within the foreseeable future; or (c) which is listed as a threatened species or endangered species under the [ESA], or is designated as depleted under [the MMPA]” 16 U.S.C. 1362(19).

SARs for both the Puerto Rico stock of Antillean manatees and the Florida manatee were last revised in December of 2009. Both are classified as strategic stocks by virtue of their listing as an endangered species under the ESA. The Service reviewed the SARs in 2010 and concluded that a revision of these SARs was not warranted at that time because the status of these stocks had not changed since 2009, nor could they be more accurately determined. Upon subsequent review in 2011, the Service determined that revision was warranted for both stocks in light of recent elevated Florida manatee mortality levels that could affect the status of this stock and the development of new methods that could more accurately determine the number of Antillean manatees in Puerto Rico. Before releasing our draft SARs for public review and comment, we reviewed the drafts with the Atlantic Scientific Review Group and submitted them for an internal technical review.

In a March 28, 2013 (78 FR 19002) Federal Register notice, we made our draft SARs available for the MMPA-required 90-day public review and comment period. We reviewed all comments received for substantive issues and new information and revised the final SARs as necessary (see Response to Public Comments). Between publication of the draft and final revised SARs, we have not revised the status of the stocks itself. However, we have updated the SARs to include the most recent information available.

The following table summarizes the information we are now making available in the final revised SARs for both stocks of the West Indian manatees, which lists the stock's Nmin, Rmax, Fr, PBR, annual estimated human-caused mortality and serious injury, and status.

Final Revised Stock Assessment Reports for Stocks of the West Indian Manatee
Stocks of West Indian Manatees | Nmin | Rmax | Fr | PBR | Annual estimated average human-caused mortality | Stock status
Florida manatee (Southeastern U.S.) | 4,834 | 0.062 | 0.1 | 14 | 99 | Strategic.
Antillean manatee (Puerto Rico) | 142 | 0.04 | 0.1 | 0 | 1 | Strategic.

Response to Public Comments

Manatee Stock Assessments

We received three comment submissions on the draft revised SARs (78 FR 19002). Commenters included the Atlantic Scientific Review Group, the Marine Mammal Commission, and the Humane Society of the United States. We present substantive issues raised in those comments, along with our responses, below.

(1) Comment: A commenter stated that the Service failed to review and revise its manatee stock assessment reports (SARs) since 2009, consistent with its responsibilities under the MMPA, i.e., 16 U.S.C. 1386 117(c)(1)(A).

Our Response: Consistent with its responsibilities under section 117(c)(1)(A) of the MMPA, the Service reviewed both manatee SARs in 2010 and 2011. As stated in the Service's March 28, 2013 Notice of Availability, and reiterated above, the Service reviewed the SARs in 2010 and concluded there was no new information indicative of a change in the status of these stocks nor was there any information to suggest that the status of these stocks could be more accurately determined and, therefore, revision was not warranted at that time. However, upon review in 2011, the Service concluded revision was warranted for both stocks in light of elevated Florida manatee mortality levels and new methods that could more accurately determine the number of Antillean manatees in Puerto Rico and began the revision process.

The Service's obligation to revise a SAR is contingent upon whether or not a review indicates that the status of the stock has changed or can be more accurately determined. If a review indicates that the status of a stock has changed or can be more accurately determined, the Service revises the SAR in accordance with section 117(b), which includes a public review and comment period. However, section 117(c)(1) does not include a similar requirement of public notice and comment on the Service's review of stock assessments. In view of this, we acknowledge the public may not be aware of the results of the Service's review of stock assessments. Therefore, although not required under the MMPA, we will update our Web pages at http://www.fws.gov/northflorida for the Florida stock and at http://www.fws.gov/caribbean/ES for the Puerto Rico stock to inform the public of the results of our annual review of these strategic stocks.

(2) Comment: Commenters recommended that the Service consistently describe the listed entity, i.e., the West Indian manatee, at the beginning of both SARs and then segue to the particular subspecies in each of the SARs.

Our Response: We have revised both SARs to clarify the listing and subspecies.

(3) Comment: We received comments encouraging continued and expanded research efforts such as examining manatee survival rates, genetics, ecological drivers, etc.

Our Response: Although these comments are outside the scope of review for these SARs, the Service appreciated this input and will continue to work with partners (e.g., U.S. Geological Survey, Florida Fish and Wildlife Research Institute, Puerto Rico Department of Natural and Environmental Resources, universities, aquaria, etc.) to collect important information on manatees and their environment.

Florida Manatee Stock Assessment

(4) Comment: Commenters stated that the identification of four stocks would facilitate management efforts because SARs, developed for each management unit, could more accurately identify unit-specific threats and, therefore, better promote recovery within the management units.

Our Response: Current and previous Florida manatee management activities have relied on the use of a state-of-the-art core biological model (CBM) to assess manatee population status and threats to the population as a whole and to assess status and threats in each of the four management units. Service and State manatee management efforts rely on the CBM for information on threats and consequently target identified threat levels through management activities described in respective recovery and management plans. The use of recovery plans to address threats is prescribed by the ESA and has been used effectively by the Service and other resource agencies for over 30 years. As such, specific management actions targeted to achieving the “conservation and survival” of the West Indian manatee are appropriately described in the recovery plan for this species issued under section 4(f) of the ESA.

In addition, section 117 of the MMPA requires the Service to prepare an assessment for each marine mammal “stock,” and the term “stock” is defined under section 3(11) of the MMPA as “a group of marine mammals of the same species or smaller taxa in a common spatial arrangement, that interbreed when mature.” Thus, although the SAR has been revised to include a discussion describing the four management units identified within Florida, the Service recognizes the Florida manatee population as a single “stock” within the meaning of that term as defined under the MMPA.

(5) Comment: Commenters asked that the Service include the 2012 Florida manatee deaths in the Florida manatee SAR.

Our Response: We have revised the Florida manatee SAR to include the 2012 Florida manatee deaths.

(6) Comment: A commenter suggested the Florida manatee SAR include a table showing annual death totals by year and region along with cause of death and a chart listing declared unusual mortality events (UMEs) and number of deaths.

Our Response: The SAR includes a table that provides annual death totals and causes for the Florida stock. A more detailed listing of annual deaths by County in Florida can be found on the Florida Fish and Wildlife Conservation Commission's (FWC) Web site (http://www.myfwc.com/research/manatee/rescue-mortality-response/mortality-statistics/). Rather than duplicate these tables, the Service directs interested parties to the FWC Web site. This link is provided in the SAR in the list of references. With regard to UMEs, NMFS maintains a running list of all UMEs on its “Marine Mammal Unusual Mortality Events” Web site (http//www.nmfs.noaa.gov/pr/health/mmume), which includes those declared for manatees. Although mortality events are discussed in the Florida manatee SAR, the Service does not believe it is necessary to duplicate the list of manatee UMEs in the revised SAR.

(7) Comment: A commenter recommended additional citations for consideration in the Florida manatee SAR in addition to a few specific editorial recommendations for both SARs.

Response: The Service appreciates these recommendations and has incorporated them into the final SARs. The additional citations referenced have been added to the complete list of scientific literature, which is available on the Federal eRulemaking portal (http://www.regulations.gov) under Docket No. FWS-R4-ES-2012-0081.

Antillean Manatee Stock Assessment

(8) Comment: The Antillean manatee SAR should include a map of the Antillean subspecies range as a whole, as well as a map that identifies key locations referenced in the text.

Our Response: We have revised the SAR for the Puerto Rico stock of Antillean manatees to include a map that references coastal municipalities and offshore islands mentioned in the SAR. Since this SAR is specific to the Puerto Rico stock, we believe the overall range of the Antillean manatee is appropriately described in the text.

(9) Comment: Tables 1 and 2 in the Antillean manatee SAR do not include data for the same time periods. Can they be modified to reflect the same periods?

Our Response: We have revised the SAR for the Puerto Rico stock of Antillean manatees to reflect the same periods.

References

In accordance with section 117(b)(1) of the MMPA, we include in this notice a list of the sources of information or published reports upon which we based the revised SAR. The Service consulted technical reports, conference proceedings, refereed journal publications, and scientific studies prepared or issued by Federal agencies, nongovernmental organizations, and individuals with expertise in the fields of marine mammal biology and ecology, population dynamics, modeling, and commercial fishing practices.

These agencies and organizations include: the Service, the U.S. Geological Survey, the National Oceanic and Atmospheric Administration, the Puerto Rico Department of Natural and Environmental Resources, the Georgia Department of Natural Resources, the Florida Fish and Wildlife Conservation Commission, Hubbs Sea World Research Institute, the Gulf and Caribbean Fisheries Institute, the Caribbean Stranding Network, and Mote Marine Laboratory. In addition, the Service consulted publications such as the Journal of Wildlife Management, Marine Mammal Science, Marine Pollution Bulletin, Marine Technology Society Journal, Wildlife Monographs, Gulf and Caribbean Research, Journal of Zoo and Wildlife Medicine, Molecular Ecology, and Molecular Ecology Notes, as well as other refereed journal literature, technical reports, and data sources in the development of these SARs.

A complete list of citations to the scientific literature relied on for each of these SARs is available on the Federal eRulemaking portal (http://www.regulations.gov) under Docket No. FWS-R4-ES-2012-0081. The list can also be viewed in Adobe Acrobat format at http://www.fws.gov/northflorida or at http://www.fws.gov/caribbean/es/manatee.

Authority

The authority for this action is the Marine Mammal Protection Act of 1972, as amended (16 U.S.C. 1361 et seq.).

Dated: January 10, 2014.
Stephen Guertin,
Acting Director, U.S. Fish and Wildlife Service.

[FR Doc. 2014-01271 Filed 1-22-14; 8:45 am]

BILLING CODE 4310-55-P